DEPARTMENT OF TRANSPORTATION

Federal Aviation Administration

[Summary Notice No. PE-2000-28]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 23, 2000.

ADDRESSES: Send comments on any petition in triplicate to: Federal Aviation Administration, Office of the Chief Counsel, Attn: Rule Docket (AGC-200), Petition Docket No.__, 800 Independence Avenue, SW., Washington, D.C. 20591.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, D.C., on July 28, 2000.
Donald P. Byrne,
Assistant Chief Counsel for Regulations.

Dispositions of Petitions

Docket No.: 28158.

Petitioner: Twin Otter International, Ltd.

Section of the FAR Affected: 14 CFR 121.345(c)(2) and 135.143(c)(2).

Description of Relief Sought/Disposition: To permit TOIL to operate certain aircraft under part 121 and part 135 without a TSO-C112 (Mode S) transponder installed on each aircraft.

Grant, 02/15/00, Exemption No. 6111B

Docket No.: 28597.

Petitioner: U.S. Helicopters, Inc.

Section of the FAR Affected: 14 CFR 135.143(c)(2).

Description of Relief Sought/Disposition: To permit U.S. Helicopters to operate certain aircraft under part 135 without a TSO-C112 (Mode S) transponder installed on each aircraft.

Grant, 02/15/00, Exemption No. 6452B

Docket No.: 28496.

Petitioner: Bohlke International Airways.

Section of the FAR Affected: 14 CFR 135.143(c)(2).

Description of Relief Sought/Disposition: To permit BIA to operate certain aircraft under part 135 without a TSO-C112 (Mode S) transponder installed on each aircraft.

Grant, 02/15/00, Exemption No. 6454B

Docket No.: 27136.

Petitioner: Kenai Air Alaska, Inc.

Section of the FAR Affected: 14 CFR 135.143(c)(2).

Description of Relief Sought/Disposition: To permit KAI to operate certain aircraft under part 135 without a TSO-C112 (Mode S) transponder installed on those aircraft.

Grant, 06/19/00, Exemption No. 5699C

Docket No.: 30025.

Petitioner: Ashland County Airport and Johnston Aviation.

Section of the FAR Affected: 14 CFR 135.251, 135.255, 135.353, and appendixes I and J to part 121.

Description of Relief Sought/Disposition: To permit ACA and JA to conduct local sightseeing flights at Ashland County Airport, Ashland, Ohio, for a one-day event in July 2000, and a one-day event in October 2000, for compensation or hire, without complying with certain anti-drug and alcohol misuse prevention requirements of part 135.

Grant, 06/15/00, Exemption No. 7245

Docket No.: 30039.

Petitioner: Big Foot Pilots Association.

Section of the FAR Affected: 14 CFR 135.251, 135.255, 135.353, and appendixes I and J to part 121.

Description of Relief Sought/Disposition: To permit BFPA to conduct local sightseeing flights at Big Foot Airport, Walworth, Wisconsin, for a two-day fly-in-drive-in breakfast in June 2000, for compensation or hire, without complying with certain anti-drug and alcohol misuse prevention requirements of part 135.

Grant, 06/15/00, Exemption No. 7244

Docket No.: 30064.

Petitioner: CP Aviation, Inc.

Section of the FAR Affected: 14 CFR 135.251, 135.255, 135.353, and appendixes I and J to part 121.

Description of Relief Sought/Disposition: To permit CPA to conduct local sightseeing flights in the vicinity of Santa Paula, California for a one-day fundraising event on behalf of the Santa Paula Chamber of Commerce and the Aviation Museum of Santa Paula in July 2000, for compensation or hire, without complying with certain anti-drug and alcohol misuse prevention requirements of part 135.

Grant, 06/15/00, Exemption No. 7242

Docket No.: 30061.

Petitioner: Grand Forks Flight Support.

Section of the FAR Affected: 14 CFR 135.251, 135.255, 135.353, and appendixes I and J to part 121

Description of Relief Sought/Disposition: To permit GFFS to conduct local sightseeing flights at Grand Forks International Airport, Grand Forks, North Dakota, for its four-day charitable airlift event in June 2000, for compensation or hire, without complying with certain anti-drug and alcohol misuse prevention requirements of part 135.

Grant, 06/09/00, Exemption No. 7237

Docket No.: 30050.

Petitioner: Experimental Aircraft Association Chapter 16.

Section of the FAR Affected:: 14 CFR 135.251, 135.255, 135.353, and appendixes I and J to part 121.

Description of Relief Sought/Disposition: To permit EAA Chapter 16 to conduct local sightseeing flights at Flora Municipal Airport, Illinois, for the one-day Arora of Flora fly-in event in June 2000, for compensation or hire, without complying with certain anti-drug and alcohol misuse prevention requirements of part 135.

Grant, 06/09/00, Exemption No. 7238

Docket No.: 30073.

Petitioner: Plainwell Pilot's Association.

Section of the FAR Affected: 14 CFR 135.251, 135.255, 135.33, and appendixes I and J to part 121.

Description of Relief Sought/Disposition: To permit PPA to conduct local sightseeing flights at Plainwell Airport, Michigan, for its one-day charitable airlift in July 2000, for compensation or hire, without complying with certain anti-drug and alcohol misuse prevention requirement of part 135.

Grant, 06/15/00, Exemption No. 7243

Docket No.: 26743.

Petitioner: The Goodyear Tire & Rubber Company.

Section of the FAR Affected: 14 CFR 145.45(f).

Description of Relief Sought/Disposition: To permit Goodyear to establish and maintain a number of fixed locations for the distribution of its repair station inspection procedures manual at each facility rather than providing a copy of the manual to each of its supervisory and inspection employees.

Grant, 06/06/00, Exemption No. 5543D

Docket No.: 29991.

Petitioner: ELDEC Corporation.

Section of the FAR Affected: 14 CFR 145.45(f).

Description of Relief Sought/Disposition: To permit ELDEC to make its Inspection Procedures Manual (IPM) available electronically to its supervisory, inspection, and other personnel, rather than give a paper copy of the IPM to each of its supervisory and inspection personnel.

Grant, 06/06/00, Exemption No. 7239

Docket No.: 28320.

Petitioner: Bombardier Aerospace, Learjet, Inc.

Section of the FAR Affected: 14 CFR 145.45(f).

Description of Relief Sought/Disposition: To permit Learjet to assign a copy of its repair station Inspection Procedures Manual (IPM) to key individuals within departments and make the IPM available to all other repair station personnel rather than giving a copy of the manual to each of its supervisory and inspection personnel.

Grant, 06/06/00, Exemption No. 7240

Docket No.: 28492.

Petitioner: VARIG S.A.

Section of the FAR Affected: 14 CFR 145.47(b).

Description of Relief Sought/Disposition: To permit VARIG to use the calibration standards of the Instituto Nacional de Metrologia, Normalização e Qualidade Industrial, Brazil's national standards organization, in lieu of the calibration standards of the U.S. National Institute of Standards and Technology, formerly the National Bureau of Standards, to test its inspection and test equipment at its São Paulo facility.

Grant, 07/02/00, Exemption No. 6831A

Docket No.: 26710.

Petitioner: Skydive DeLand, Inc.

Section of the FAR Affected: 14 CFR 105.43(a).

Description of Relief Sought/Disposition: To permit Skydive to allow nonstudent parachutists who are foreign nationals to participate in parachute jumping events sponsored by Skydive without complying with the parachute equipment and packing requirements.

Grant, 06/27/00, Exemption No. 5542D

[FR Doc. 00-19523 Filed 8-1-00; 8:45 am]

BILLING CODE 4910-13-M